DEPARTMENT OF ENERGY

Federal Energy Regulatory Commission

[Docket No. RP00-391-001 and RP00-575-001]

Mississippi Canyon Gas Pipeline, LLC; Notice of Compliance Filing

July 18, 2002.

Take notice that on July 16, 2002 Mississippi Canyon Gas Pipeline, LLC (MCGP) tendered for filing as part of its FERC Gas Tariff, First Revised Volume No. 1, the tariff sheets listed on Attachment A to the filing.

MCGP states that the purpose of this filing is to comply with the Commission's June 17, 2002 order on MCGP's Order No. 637 pro forma compliance filing. Pursuant to Ordering Paragraph (B) of that order, MCGP is not proposing an effective date for the revised tariff sheets at this time.

MCGP states that a copy of this filing has been served upon its customers and interested state commissions.

Any person desiring to protest said filing should file a protest with the Federal Energy Regulatory Commission, 888 First Street, NE., Washington, DC 20426, in accordance with Section 385.211 of the Commission's Rules and Regulations. All such protests must be filed on or before July 25, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18679 Filed 7-23-02; 8:45 am]

BILLING CODE 6717-01-P